COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List services to be furnished by nonprofit agencies employing persons who are blind or have other severe disabilities, and deletes from the Procurement List products previously furnished by such agencies.

EFFECTIVE DATE: March 4, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740

SUPPLEMENTARY INFORMATION: On November 16, November 30, and December 21, 2001, the Committee for Purchase From People Who Are Blind or Severely Disabled published notices (66 FR 57703, 59778 and 65876) of proposed additions to and deletions from the Procurement List:

Additions

After consideration of the material presented to it concerning capability of qualified nonprofit agencies to provide the services and impact of the additions on the current or most recent contractors, the Committee has determined that the services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are added to the Procurement List.

Services

Service Type/Location: Administrative Services, US Attorney's Office-Atlanta, DOJ, 1800 US Courthouse, 75 Spring Street, Atlanta, Georgia

Contracting Activity: US Attorney's Office-Atlanta, DOJ, Atlanta, Georgia

Service Type/Location: Food Service Attendant, 174th FW/LGC, NYANG, Hancock Field, Syracuse, New York

Contracting Activity: New York Air National Guard, Syracuse, New York

Service Type/Location: Janitorial/Custodial, VA Primary Care Clinic, McHenry, Illinois

Contracting Activity: Department of Veterans Affairs, Milwaukee, Wisconsin

Deletions

I certify that the following action will not have a significant impact on a substantial number of small entities. The major factors considered for this certification were:

1. The action may not result in any additional reporting, recordkeeping or other compliance requirements for small entities.

2. The action will not have a severe economic impact on future contractors for the commodities.

3. The action will result in authorizing small entities to furnish the commodities to Government.

4. There are no known regulatory alternatives which would accomplish the objectives of the Javits-Wagner-O'Day Act (41 U.S.C. 46-48c) in connection with the products deleted from the Procurement List.

After consideration of the relevant matter presented, the committee has determined that the commodities listed below are no longer suitable for procurement by the Federal Government under 41 U.S.C. 46-48c and 41 CFR 51-2.4.

Accordingly, the following commodities are deleted from the Procurement List:

Commodities

Commodity/NSN: Calendar Pad

7510-01-450-5452

Commodity/NSN: Executive/Personal Time Management System

7530-01-458-3130

7530-01-458-3131

7510-01-458-3132

7510-01-458-3133

7530-01-458-3135

7530-01-458-3136

7510-01-458-3137

7510-01-458-3138

7530-01-458-3139

7510-01-458-3141

7530-01-458-3142

7530-01-458-3143

7530-01-458-3145

7530-01-458-3146

7510-01-458-3147

7510-01-458-3150

7530-01-458-3152

7530-01-458-3154

7530-01-458-3159

7530-01-458-3161

7530-01-458-3164

Commodity/NSN: Refill, Appointment Book

7530-01-450-5406

Sheryl D Kennerly,
Director, Information Management.

[FR Doc. 02-2517 Filed 1-31-02; 8:45 am]

BILLING CODE 6353-01-P